DEPARTMENT OF COMMERCE

National Oceanic and Atmospheric Administration

[I.D. 022807G]

Taking and Importing Marine Mammals; Taking Marine Mammals Incidental to Rocket Launches from Kodiak, AK

AGENCY: National Marine Fisheries Service, National Oceanic and Atmospheric Administration, Commerce.

ACTION: Notice; issuance of a Letter of Authorization.

SUMMARY: In accordance with the Marine Mammal Protection Act (MMPA) and implementing regulations, notification is hereby given that a 1-year letter of authorization (LOA) has been issued to the Alaska Aerospace Development Corporation (AADC), to take Steller sea lions (Eumetopias jubatus) and Pacific harbor seals (Phoca vitulina richardii) incidental to rocket launches from the Kodiac Launch Complex (KLC).

DATES: Effective March 12, 2007, through March 11, 2008.

ADDRESSES: The LOA and supporting documentation are available by writing to Michael Payne, Chief, Permits, Conservation, and Education Division, Office of Protected Resources, National Marine Fisheries Service, 1315 East-West Highway, Silver Spring, MD 20910-3225, by telephoning one of the contacts listed here (see FOR FURTHER INFORMATION CONTACT), or online at: http://www.nmfs.noaa.gov/pr/permits/incidental.htm. Documents cited in this notice may be viewed, by appointment, during regular business hours, at the aforementioned address.

FOR FURTHER INFORMATION CONTACT: Jolie Harrison, Office of Protected Resources, NMFS, (301) 713-2289, or Brad Smith, NMFS, (907) 271-3023.

SUPPLEMENTARY INFORMATION:

Background

Section 101(a)(5)(A) of the MMPA (16 U.S.C. 1361 et seq.) directs the National Marine Fisheries Service (NMFS) to allow, on request, the incidental, but not intentional, taking of small numbers of marine mammals by U.S. citizens who engage in a specified activity (other than commercial fishing) within a specified geographical region if certain findings are made and regulations are issued. Under the MMPA, the term “taking” means to harass, hunt, capture, or kill or to attempt to harass, hunt, capture or kill marine mammals.

Authorization may be granted for periods up to 5 years if NMFS finds, after notification and opportunity for public comment, that the taking will have a negligible impact on the species or stock(s) of marine mammals and will not have an unmitigable adverse impact on the availability of the species or stock(s) for subsistence uses. In addition, NMFS must prescribe regulations that include permissible methods of taking and other means effecting the least practicable adverse impact on the species and its habitat and on the availability of the species for subsistence uses, paying particular attention to rookeries, mating grounds, and areas of similar significance. The regulations must include requirements for monitoring and reporting of such taking.

Regulations governing the taking of Steller sea lions (SSLs) and harbor seals incidental to rocket launches at KLC, became effective on February 27, 2006 (71 FR 4297), and remain in effect until February 28, 2011. For detailed information on this action, please refer to that document. These regulations include mitigation, monitoring, and reporting requirements for the incidental taking of marine mammals during rocket launches at KLC.

Summary of Request

NMFS received a request for an LOA pursuant to the aforementioned regulations that would authorize, for a period not to exceed 1 year, take of marine mammals incidental to rocket launches at KLC.

Summary of Activity and Monitoring Under the Current LOA

In compliance with the 2006 LOA, AADC submitted an annual report on the rocket launches at KLC. A summary of that report (R&M Consultants, 2006) follows.

One launch was conducted at KLC between February 27, 2006, and February 28, 2007. This was a monitored launch of an Interceptor FTG-02 on September 1, 2006, at 9:22 am. Aerial surveys to document abundance of SSLs and harbor seals were flown 3 days prior to, immediately after, and 2 days post launch. Video monitoring equipment and a sound level meter were deployed on the northeast end of Ugak Island, 4.5 miles (7.2 km) from the launch site, overlooking East Ugak Rock, and another sound level meter was deployed at Narrow Cape, 0.9 miles from the launch site. No SSLs were observed at the traditional haul-out site on the northern tip of Ugak Island during pre-launch surveys; therefore, no monitoring at that site was conducted. As an alternative, the northeast end of Ugak Island was chosen as a monitoring location as two to five SSLs we observed there during pre-launch aerial survey flights.

Sound level monitoring equipment at the SSL haulout site registered noise above general ambient levels for one minute eight seconds. Noise levels peaked at 105.6 dBC. During pre-launch aerial surveys, 2 to 4 sea lions were observed hauled out at this site and one was seen swimming in the area on 2 of the 3 days. Video monitoring showed two SSLs resting on East Ugak Rock during the launch. No change in SSL activity was observed during the ignition, during the peak noise levels that followed the launch, or for the remaining duration of the video monitoring (4 hrs 7 min). Post launch surveys documented 1-2 SSLs using this haul-out site.

Video monitoring for harbor seal reaction during the launch was not required in conjunction with SSL response monitoring. Abundance monitoring via aerial surveys conducted pre and post launch around Ugak Island revealed that harbor seals concentrated at two haul-out sites. Average haul-out attendance increased on days following the launch at these two locations, Northeast and Southeast Ugak Island. Pre launch surveys showed 876 and 1154, respectively, seals hauled-out while post launch surveys revealed 1207 and 1497 seals at these locations. Therefore, NMFS believes that harbor seal attendance at these haul-out sites was not affected negatively by this launch.

In summary, no impacts to any marine mammals were detected during the launches. There was no evidence of injury or mortality as a result of the launches and numbers of hauled out animals were similar to or higher than pre-launch levels within 1 day of the launch.

Authorization

Accordingly, NMFS has issued an LOA to AADC authorizing takes of marine mammals incidental to rocket launches at the KLC. Issuance of this LOA is based on findings, described in the preamble to the final rule (71 FR 4297, January 26, 2006) and supported by information contained in AADC's required 2006 annual report, that the activities described under this LOA will result in the take of small numbers of marine mammals, have a negligible impact on marine mammal stocks, and will not have an unmitigable adverse impact on the availability of the affected marine mammal stocks for subsistence uses.

Dated: March 12, 2007.
James H. Lecky,
Director, Protected Resources, National Marine Fisheries Service.

[FR Doc. E7-4885 Filed 3-16-07; 8:45 am]

BILLING CODE 3510-22-S